DEPARTMENT OF EDUCATION

Submission for OMB Review; Comment Request

AGENCY: Department of Education.

ACTION: Correction notice.

SUMMARY: On November 26, 2010, the Department of Education published a 30-day public comment period notice in the Federal Register (Page 72818, Column 3) for the information collection, “William D. Ford Federal Direct Loan (Direct Loan) Program Federal Direct PLUS Loan Master Promissory Note and Endorser Addendum”. The correct title for the information collection should be William D. Ford Federal Direct Loan (Direct Loan) Program Federal Direct Consolidation Loan Application and Promissory Note Documents. The abstract for the information collection package should read as follows: “The Federal Direct Consolidation Loan Application and Promissory Note serves as the means by which a borrower applies for a Direct Consolidation Loan and promises to repay the loan. Related documents included with this collection are (1) Additional Loan Listing Sheet (provides additional space for a borrower to list loans that he or she wishes to consolidate, if there is insufficient space on the Application and Promissory Note); (2) Request to Add Loans (serves as the means by which a borrower may add other loans to an existing Direct Consolidation Loan within a specified time period); and (3) Loan Verification Certificate (serves as the means by which the U.S. Department of Education obtains the information needed to pay off the holders of the loans that the borrower wants to consolidate).” The Director, Information Collection Clearance Division, Regulatory Information Management Services, Office of Management, hereby issues a correction notice as required by the Paperwork Reduction Act of 1995.

FOR FURTHER INFORMATION CONTACT: Stephanie Valentine at stephanie.valentine@ed.gov.

Dated: November 30, 2010.
Darrin A. King,
Director, Information Collection Clearance Division, Regulatory Information Management Services, Office of Management.

[FR Doc. 2010-30460 Filed 12-3-10; 8:45 am]

BILLING CODE 4000-01-P